DEPARTMENT OF THE INTERIOR

Fish and Wildlife Service

50 CFR Part 17

RIN 1018-AI25

Endangered and Threatened Wildlife and Plants; Determinations of Prudency of Critical Habitat Designation for Two Mammal and Four Bird Species in Guam and the Commonwealth of the Northern Mariana Islands; Designations of Critical Habitat for One Mammal and Two Bird Species in Guam and the Commonwealth of the Northern Mariana Islands

AGENCY: Fish and Wildlife Service, Interior.

ACTION: Proposed rule; reopening of comment period, notice of availability.

SUMMARY: We, the U.S. Fish and Wildlife Service (Service) announce the reopening of the public comment period for the proposed rule to designate critical habitat for the Mariana fruit bat and the Guam Micronesian kingfisher on Guam, and the Mariana crow on Guam and Rota. We have received a proposed natural resource management plan from Guam since the close of the comment period, and the comment period is reopened to allow additional time for all interested parties to consider this information and submit written comments on the Guam proposal. Comments already submitted on the proposed rule need not be resubmitted as they already have been incorporated into the public record and will be fully considered in the final determination.

DATES: The comment period for this proposal now closes on July 19, 2004. Any comments received by the closing date will be considered in the final decision on this proposal.

ADDRESSES: Written comments and information should be submitted to the Acting Field Supervisor, U.S. Fish and Wildlife Service, Pacific Islands Office, 300 Ala Moana Boulevard, Room 3-122, P.O. Box 50088, Honolulu HI 96850. Comments and materials received will be available for public inspection, by appointment, during normal business hours at the above address.

FOR FURTHER INFORMATION CONTACT: Gina Shultz, Assistant Field Supervisor, at the above address (telephone 808/792-9400; facsimile 808/792-9580).

SUPPLEMENTARY INFORMATION:

Background

On October 15, 2002, we proposed designating critical habitat on approximately 10,053 hectares (ha) (24,840 acres (ac)) in two units on the island of Guam for the Mariana fruit bat (Pteropus mariannus mariannus) and the Guam Micronesian kingfisher (Halcyon cinnamomina cinnamomina) (67 FR 63738). For the Mariana crow (Corvus kubaryi), we proposed designating critical habitat on approximately 9,325 ha (23,042 ac) in two units on the island of Guam and approximately 2,462 ha (6,084 ac) in one unit on the island of Rota in the Commonwealth of the Northern Mariana Islands. On Guam, the boundaries of the proposed critical habitat units for the Mariana fruit bat and Guam Micronesian kingfisher are identical, and the boundaries of the proposed critical habitat for the Mariana crow are contained within these boundaries. On Rota, critical habitat is proposed only for the Mariana crow. For locations of these proposed units and additional information, please see the proposed rule (67 FR 63738).

The original comment period for the proposed rule closed on December 16, 2002. On December 5, 2002, we published a notice in the Federal Register announcing an extension of the public comment period to January 6, 2003, and the availability of the draft economic analysis for the proposed designation of critical habitat (67 FR 72407). On January 28, 2003, we published a notice to reopen the comment period until February 18, 2003, due to hardships caused by Supertyphoon Pongsona on Guam and Rota (68 FR 4159). On May 30, 2003, the Government of Guam filed a motion to extend the court-ordered deadline for completing the critical habitat process to allow time to develop an alternative to critical habitat designation on Guam. On June 13, 2003, the Federal District Court for Guam extended the deadline for publication “indefinitely,” and set a status conference for October 7, 2003. On June 23, 2003, the Plaintiffs filed a notice of appeal to the 9th Circuit from the District Court's June 13, 2003, order. On October 7, 2003, the District Court held a status conference in which the Government of Guam requested a continuance of one month. On October 16, 2003, the Guam District Court denied the request for further continuance and ruled that it would take no further action while the case was on appeal. On January 7, 2004, the U.S. Court of Appeals for the Ninth Circuit dismissed the appeal and returned the case to the District Court.

Public Comments Solicited

Since the close of the comment period, we have received new information in the form of a proposed natural resource management plan (copy available upon request) from the Government of Guam. The comment period is reopened to allow additional time for all interested parties to consider the information and submit written comments on the proposal. In particular, we are interested in comments addressing the extent to which the proposed Guam plan would provide conservation benefits for the proposed critical habitat area, the comparative costs, or other impacts of Guam's proposal and the proposed critical habitat, and whether or not Guam's proposal would provide a basis for excluding areas from final critical habitat designation pursuant to sections 4(b)(2) or 3(5)(A) of the Endangered Species Act.

We will accept written comments and information received during this reopened comment period. If you wish to comment, you may send or hand-deliver written comments and information to the Acting Field Supervisor (see ADDRESSES section).

Comments and materials received, as well as supporting documentation used in preparation of the proposal to designate critical habitat, will be available for inspection, by appointment, during normal business hours at the Pacific Islands Fish and Wildlife Office (see ADDRESSES section). Copies of the proposed rule are available on the Internet at http://pacificislands.fws.gov or by request from the Acting Field Supervisor at the address above (see ADDRESSES section), by phone at 808/792-9400, or by facsimile at 808/792-9581.

Author

The primary author of this notice is Fred Amidon, U.S. Fish and Wildlife Service, Pacific Islands Fish and Wildlife Office (see ADDRESSES section).

Authority: The authority for this action is the Endangered Species Act of 1973 (16 U.S.C. 1531 et seq.).

Dated: May 25, 2004.
David P. Smith,
Acting Assistant Secretary for Fish and Wildlife and Parks.

[FR Doc. 04-12432 Filed 6-1-04; 8:45 am]

BILLING CODE 4310-55-P